DEPARTMENT OF JUSTICE

Drug Enforcement Administration

[Docket No. DEA-363]

Controlled Substances: Proposed Adjustment to the Aggregate Production Quotas for 2012

In notice document 2012-16396 appearing on pages 39737-38741 in the issue of Thursday, July 5, 2012, make the following correction:

On page 39739, in the table, in the second line from the bottom of the page, the third column should read “No Change.”

[FR Doc. C1-2012-16396 Filed 7-10-12; 8:45 am]

BILLING CODE 1505-01-D